DEPARTMENT OF AGRICULTURE

Forest Service

Invasive Plant Treatment Project—Ochoco and Deschutes National Forests; Oregon

AGENCY: Forest Service, USDA.

ACTION: Notice of intent to prepare an environmental impact statement.

SUMMARY: The USDA Forest Service will prepare an environmental impact statement (EIS) to document and disclose the potential environmental effects of proposed invasive plant treatment activities on the Ochoco and Deschutes National Forest. This project evaluates site specific treatments of invasive plants, including manual, mechanical, chemical and biological control treatment methods.

DATES: Comments concerning the scope of this analysis should be received no later than April 5, 2004.

ADDRESSES: Submit written comments to: Invasive Plant Team, USDA Forest Service, P.O. Box 3623, Portland, OR 97208-3623.

FOR FURTHER INFORMATION CONTACT: Eugene Skrine, Team Leader, Invasive Plant EIS Project, USDA Forest Service, P.O. Box 3623, Portland, OR 97208-3623 or by calling (503) 808-2685.

SUPPLEMENTARY INFORMATION:

Need for the Proposal

Approximately 10,000 acres of forests and grasslands are degraded on the Ochoco and Deschutes National Forests by infestations of invasive, non-native plants. These infestations are situated on about 2500 individual locations or sites. These infestations have a high potential to expand and further degrade forests and grasslands. Infested areas represent potential seed sources for further invasion onto neighboring lands.

Invasive plants are compromising our ability to manage the National Forests for a healthy native ecosystem. Invasive plants create a host of environmental and other effects, most of which are harmful to native ecosystem processes, including: displacement of native plants; reduction in functionality of habitat and forage for wildlife and livestock; loss of threatened, endangered, and sensitive species; increased soil erosion and reduced water quality; alteration of physical and biological properties of soil, including reduced soil productivity; changes to the intensity and frequency of fires; high cost (dollars spent) of controlling invasive plants; and loss of recreational opportunities.

Proposed Action

The USDA Forest Service Ochoco and Deschutes National Forests, propose to treat areas infested with invasive plants. We estimate the cumulative treatment area to be 10,000 acres, including approximately 3,000 acres by manual treatment, 500 acres by mechanical treatment, and 6,500 acres by chemical treatment. The proposed treatments will be conducted in compliance with Forest Plan direction to enhance our ability to protect native ecosystems from invasive, non-native plants. Some of the treated areas are small in size , while others are somewhat extensive. Treatment methods will employ manual, mechanical, chemical, and biological control methods. Selection of treatment methods is based on information such as the biology of particular invasive plant species, site location, and size of the infestation. Long-term site goals will be established for infested areas, taking into consideration treatment options, monitoring and revegetation feasability.

Proposed Scoping

Public participation is an important part of this analysis. The Forest Service is seeking information, comments, and assistance from Federal, State and local agencies, tribes, and other individuals or organizations who may be interested in or affected by the proposed action. Comments submitted during the scoping process should be in writing. They should be specific to the action being proposed and should describe as clearly and completely as possible any issues the commenter has with the proposal. This input will be used in preparation of the draft EIS.

To facilitate public participation additional scoping opportunities will include: a scoping letter, public meetings (dates and locations yet to be determined), newsletters, and a Web site (www.fs.fed.us/r6/invasiveplant-eis/multiforest-sitespecific-information.htm).

Preliminary Issues Identified to Date

Preliminary issues associated with the Proposed Action include:

• Human Health—Implementation of treatment methods (particularly herbicides) designed to manage invasive plants may pose risks to the health and safety of workers and the public.

• Threatened, Endangered and Sensitive Species—The treatment of invasive plants can affect Threatened, Endangered, and Sensitive Species.

• Aquatics—The treatment of invasive plants, particularily with herbicides, can affect aquatic ecosystems, including water quality and watershed health.

• Tribes and Treaty Rights—The treatment of invasive plants has potential to affect plants considered culturally important to American Indian Tribes.

• Recreation—The treatment of invasive plants can affect recreation on the Forests.

• Wildlife—The treatment of invasive plants has potential to affect wildlife.

Preliminary Alternatives

The No Action alternative will serve as a baseline for comparison of alternatives. This alternative will offer no treatment of affected sites. It will be fully developed and analyzed. Additional alternatives may be developed around the proposed action to address key issues identified in the scoping and public involvement process. An adaptive management approach may be considered as an alternative.

Estimated Dates for Draft and Final EIS

The draft EIS is expected to be filed with the Environmental Protection Agency (EPA) and to be released for public comment by September 2004. The comment period on the draft EIS will end 45 days from the date the EPA publishes the notice of availability in the Federal Register.

The Forest Service believes, at this early stage, it is important to give reviewers notice of several court rulings related to public participation in the environmental review process. First, reviewers of the draft EIS must structure their participation in the environmental review of the proposal so that it is meaningful, and alerts an agency to the reviewer's position and contentions (Vermont Yankee Nuclear Power Corp. v. NRDC. 435 U.S. 519. 553 [1978]). Also, environmental objectives that could be raised at the draft EIS stage but that are not raised until after the completion of the final EIS may be waived or dismissed by the courts (City of Angoon v. Hodel, 803 F. 2d 1016, 1022 [9th Cir. 1986] and Wisconsin Heritage, Inc. v. Harris, 490 F. Supp. 1334 [E.D.Wis. 1980]). Because of these court rulings, it is very important that those interested in this proposed action participate by the close of the 45-day comment period, so that substantive comments and objections are made available to the Forest Service at a time when it can meaningfully consider them and respond to them in the final EIS.

To assist the Forest Service in identifying and considering issues and concerns on the proposed action, comments on the draft EIS should be as specific as possible. It is also helpful if the comments refer to specific pages or chapters of the draft statement. Comments may also address the adequacy of the draft EIS or the merits of alternatives formulated and discussed in the statement. Reviewers may wish to refer to the Council on Environmental Quality Regulations for implementing the procedural provision of the National Environmental Policy Act (40 CFR 1503.3) in addressing these points.

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Comments on the draft EIS will be analyzed, considered, and responded to by the Forest Service in preparing the final EIS. The final EIS is scheduled to be completed in February 2005. There will be two responsible officials for this multiforest EIS. Duties of the Responsible Official will be shared between Leslie Weldon, Forest Supervisor of the Deschutes National Forest, and Larry Timchak, Forest Supervisor of the Ochoco National Forest. They will consider comments, responses, and environmental consequences discussed in the final EIS, and applicable laws, regulations, and policies in making a decision regarding this proposed action. The responsible officials will document the decision and rationale for the decision in the Record of Decision. It will be subject to Forest Service Appeal Regulations (36 CFR Part 215).

Dated: February 12, 2004.
Jim Golden,
Deputy Regional Forester, Pacific Northwest Region.

[FR Doc. 04-3580 Filed 2-20-04; 8:45 am]

BILLING CODE 3410-11-P